DEPARTMENT OF THE TREASURY

Internal Revenue Service

Low Income Taxpayer Clinic Grant Program; Availability of 2016 Grant Application Package; Correction

AGENCY: Internal Revenue Service (IRS), Treasury.

ACTION: Notice; correction

SUMMARY: The Internal Revenue Service published a document in the Federal Register of May 13, 2015, announcing the availability of the 2016 grant application package. The heading inadvertently referencing the “2014” Grant Application Package should have read “2016”.

FOR FURTHER INFORMATION CONTACT: The LITC Program Office at (202) 317-4700 (not a toll-free number) or by email at LITCProgramOffice@irs.gov.

Correction

In the Federal Register of May 13, 2015, in FR Doc. 2015-11567, on page 27436, in the second column, the heading inadvertently referenced “2014.” The correct year is “2016”. Please correct the heading to read as follows:

Low Income Taxpayer Clinic Grant Program; Availability of 2016 Grant Application Package

Nina E. Olson,
National Taxpayer Advocate, Internal Revenue Service.

[FR Doc. 2015-12953 Filed 5-27-15; 8:45 am]

BILLING CODE 4830-01-P